SECURITIES AND EXCHANGE COMMISSION

Sunshine Act Meetings

TIME AND DATE: Notice is hereby given, pursuant to the provisions of the Government in the Sunshine Act, Public Law 94-409, that the Securities and Exchange Commission (SEC or Commission) will co-host a joint public roundtable with the Commodity Futures Trading Commission (CFTC) on September 29, 2025, from 1 p.m. to 5:30 p.m. (ET).

PLACE: The roundtable will be held in the Auditorium at the Commission's headquarters, 100 F Street NE, Washington, DC 20549.

STATUS: This Sunshine Act notice is being issued because a majority of the Commission may attend the meeting. The meeting will begin at 1 p.m. (ET) and will be open to the public. Seating will be on a first-come, first-served basis. Doors will open at 12 p.m. (ET). Visitors will be subject to security checks. The meeting will be webcast on the Commission's website at www.sec.gov, and a recording will be posted at a later date.

MATTERS TO BE CONSIDERED: The SEC will co-host a joint public roundtable with the CFTC on regulatory harmonization efforts. The roundtable is open to the public, who must register at this link. This Sunshine Act notice is being issued because a majority of the Commission may attend the roundtable.

CONTACT PERSON FOR MORE INFORMATION: For further information; please contact Vanessa A. Countryman from the Office of the Secretary at (202) 551-5400.

Authority: 5 U.S.C. 552b.

Dated: September 16, 2025.
Vanessa A. Countryman,
Secretary.

[FR Doc. 2025-18076 Filed 9-16-25; 11:15 am]

BILLING CODE 8011-01-P